DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security.

Time and Date: 9 a.m. to 5 p.m., August 28, 2002. 9 a.m. to 3 p.m., August 29, 2002.

Place: Hubert H. Humphrey Building, Room 800, 200 Independence Avenue, SW., Washington, DC.

Status: Open.

Purpose: The Subcommittee on Standards and Security plans to solicit testimony from a panel of invited experts in medical terminologies to help the Committee define the scope and the criteria for recommendations on the selection of Patient Medical Record Information (PMRI) terminologies under the Health Insurance Portability and Accountability Act (HIPAA). On the second day the Subcommittee will hear from an expert panel about recent initiatives in the public and private sectors aimed at promoting and coordinating national activities for health data standards in support of achieving system interoperability and data comparability in order to meet clinical and public health needs. Additional general topics will include procedure codes and future health data standards recommendations to the HHS Secretary.

Contact Person for More Information: Substantive program information as well as summaries of meetings and a roster of Committee members may be obtained from Karen Trudel, Senior Technical Advisor, Security and Standards Group, Centers for Medicare and Medicaid Services, MS: C5-24-04, 7500 Security Boulevard, Baltimore, MD 21244-1850, telephone: 410-786-9937; or Marjorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS Web site: http://www.ncvhs.hhs.gov/ where an agenda for the meeting will be posted when available.

Dated: August 2, 2002.
James Scanlon,
Director, Division of Data Policy, Office of the Assistant Secretary for Planning and Evaluation.

[FR Doc. 02-21057 Filed 8-19-02; 8:45 am]

BILLING CODE 4151-05-M